DEPARTMENT OF LABOR

Employment and Training Administration

[TA-W-60,354]

Altana Pharma USA Inc., Florham Park, NJ and Waltham, MA, Notice of Termination of Investigation

Pursuant to Section 221 of the Trade Act of 1974, as amended, an investigation was initiated on November 1, 2006 in response to a worker petition filed a company official on behalf of workers at Altana Pharma USA Inc., in Florham Park, New Jersey and Waltham, Massachusetts.

The petitioner has requested that the petition be withdrawn. Consequently, the investigation has been terminated.

Signed at Washington, DC this 2nd day of November 2006.
Richard Church,
Certifying Officer, Division of Trade Adjustment Assistance.

[FR Doc. E6-19343 Filed 11-15-06; 8:45 am]

BILLING CODE 4510-30-P